DEPARTMENT OF COMMERCE

National Oceanic and Atmospheric Administration

[I.D. 122905A]

Fisheries of the Caribbean, Gulf of Mexico, and South Atlantic; Reef Fish Fishery of the Gulf of Mexico; Second Referendum Procedures for a Potential Gulf of Mexico Red Snapper Individual Fishing Quota Program

AGENCY: National Marine Fisheries Service (NMFS), National Oceanic and Atmospheric Administration (NOAA), Commerce.

ACTION: Notice of referendum schedule.

SUMMARY: NMFS issues this notice to announce information about the schedule for participating in a referendum to determine whether an individual fishing quota (IFQ) program for the Gulf of Mexico commercial red snapper fishery should be submitted to the Secretary of Commerce (Secretary) for review. The intended effect of the IFQ program would be to reduce overcapacity in the commercial red snapper fishery and end the current derby-type conditions that have resulted from increasingly restrictive regulation.

ADDRESSES: Copies of supporting documentation including the final rule implementing these procedures (69 FR 6921, February 12, 2004), which includes a regulatory impact review and a Regulatory Flexibility Act Analysis, are available from NMFS, Southeast Regional Office, 263 13th Avenue S., St. Petersburg, FL 33701.

FOR FURTHER INFORMATION CONTACT: Phil Steele, telephone: 727-551-5784, fax: 727-824-5308, e-mail: phil.steele@noaa.gov.

SUPPLEMENTARY INFORMATION: Under section 407(c) of the Magnuson-Stevens Fishery Conservation and Management Act (Magnuson-Stevens Act), the Gulf of Mexico Fishery Management Council (Council) is authorized to prepare and submit a plan amendment and regulations to implement an IFQ program for the commercial red snapper fishery, but only if certain conditions are met. First, the preparation of such a plan amendment and regulations must be approved in a referendum of certain fishery participants. Second, the submission of the plan amendment and regulations to the Secretary for review and approval or disapproval must be approved in a subsequent referendum. Both referendums must be conducted in accordance with section 407(c)(2). Section 407(c)(2) also specifies that:

Prior to each referendum, the Secretary, in consultation with the Council, shall: (A) identify and notify all such persons holding permits with red snapper endorsements and all such vessel captains; and (B) make available to all such persons and vessel captains information about the schedule, procedures, and eligibility requirements for the referendum and the proposed individual fishing quota program.

On February 12, 2004, NMFS issued the final rule (69 FR 6921) to provide information about the schedule, procedures, and eligibility requirements for participating in both referendums to determine whether an IFQ program should be prepared and, if so, whether it should be submitted to the Secretary for review. The intended effect of the final rule was to implement procedures for the referendums consistent with the requirements of the Magnuson-Stevens Act.

At the request of the Council, NMFS conducted the first referendum in early 2004 and presented the results to the Council at its March 2004 meeting. The voters approved preparation of an IFQ plan amendment in that referendum, and the Council began preparation of the amendment. The Council is scheduled to take final action on the amendment at its March 2006 meeting, and therefore NMFS needs to complete the second referendum prior to that meeting.

The procedures, criteria, and vote weighting formula for this referendum were established in the final rule published February 12, 2004 (69 FR 6921) and are repeated here pursuant to section 407(c)(2) of the Magnuson-Stevens Act.

Referendum Processes

Who Will Be Eligible to Vote in the Referendums?

Section 407(c)(2) of the Magnuson-Stevens Act establishes criteria regarding eligibility of persons to vote in the referendums. Those criteria are subject to various interpretations. After careful consideration of those criteria, the practicality and fairness of several possible interpretations, and public comments, NMFS has determined the following persons will be eligible to vote in the referendum.

I. For the second referendum:

A. A person who according to NMFS permit records has continuously held his or her Gulf red snapper endorsement/Class 1 license from September 1, 1996, through the date of publication in the Federal Register of this notice announcing the second referendum;

B. In the case of a Class 1 license that has been transferred through sale since September 1, 1996, the person who according to NMFS' permit records holds such Class 1 license as of the date of publication in the Federal Register of this notice announcing the second referendum;

C. In the case of a Class 1 license that has been transferred through lease since September 1, 1996, both the final lessor and final lessee as of the date of publication in the Federal Register of this notice announcing the second referendum, as determined by NMFS' permit records; and

D. A vessel captain who harvested red snapper under a red snapper endorsement in each red snapper commercial fishing season occurring between January 1, 1993, and September 1, 1996.

A person will only receive voting eligibility under one of the eligibility criteria, i.e., a person will not receive dual voting eligibility by being both a qualifying vessel captain and a qualifying holder of an endorsement/Class 1 license.

NMFS has sufficient information in the Southeast Regional Office fisheries permit database to identify those persons who will be eligible to vote in the referendums based on their having held a red snapper endorsement/Class 1 license during the required periods. However, NMFS did not have sufficient information to identify vessel captains whose eligibility would be based on the harvest of red snapper under a red snapper endorsement in each red snapper commercial fishing season occurring between January 1, 1993, and September 1, 1996. To obtain that information prior to the first referendum, NMFS prepared and distributed a fishery bulletin that described the general referendum procedures and provided a 20-day period (ending August 18, 2003) for submittal of detailed information by those vessel captains. That fishery bulletin was widely distributed to all Gulf reef fish permitees, including dealers, and to major fishing organizations, state fisheries directors, and others. Information received from that solicitation has been used to identify vessel captains whose eligibility to vote in the referendums is based on the red snapper harvest criterion.

How Will Votes Be Weighted?

Section 407(c)(2) of the Magnuson-Stevens Act requires that NMFS develop a formula to weight votes based on the proportional harvests under each eligible endorsement and by each eligible captain between the period January 1, 1993, and September 1, 1996. NMFS will obtain applicable red snapper landings data from the Southeast Fisheries Science Center reef fish logbook database. Information from NMFS' Southeast Regional Office permit database will be used to assign applicable landings to each eligible voter (red snapper endorsement/Class 1 license holder, lessee/lessor, or vessel captain). In cases where only one eligible voter has eligibility tied to a particular license, all applicable landings associated with that license accrue to that voter, and the voter will be assigned a vote-weighting factor of one vote per pound. In cases where more than one eligible voter has eligibility tied to a particular license, e.g., lessee and lessor, or a qualifying vessel captain and a license holder, all eligible voters associated with that license will have their vote weighted equally such that their combined vote will equal one vote per pound of landings applicable to that license. For example, if a qualifying captain is eligible based on his or her landings under a specific license during the relevant time period, and that license is now held by a license holder who is not involved with lease arrangements with that license, but who is not the same qualifying captain, then each would get one-half of a vote per pound of landings associated with the license. In this example, should the current holder lease the same license, then each participant would have their vote weighted as one-third of a vote per pound, so that their combined vote would equal the total number of pounds associated with the license.

The weighting procedure is complicated somewhat by requirements to protect the confidentiality of landings data, when the applicable landings history involves landings by different entities. To address confidentiality concerns, NMFS will establish a series of categories (ranges) of red snapper landings based on 5,000-lb (2,268-kg) intervals, e.g., 0-5,000 lb (0-2,268 kg); 5,001-10,000 lb (2,268-4,536 kg); etc., concluding with the interval that includes the highest documented landings. The total landings between the period January 1, 1993, and September 1, 1996, associated with each license, will be attributed to the appropriate category. The overall average pounds landed attributed to each category will be determined. That average number of pounds will be the base applied to the vote-weighting factor for each eligible voter whose landings fall within that category.

For example, if the overall average number of pounds attributed to the 5,001-10,000-lb (2,268-4,536-kg) category is 8,150 lb (3,697 kg), each eligible voter within that category would receive votes equal to 8,150 multiplied by the applicable vote-weighting factor, e.g., 8,150 × 1.0 = 8,150 votes if only one voter was associated with the license; 8,150 × 0.5 = 4,075 votes each for a lessee and lessor associated with the same license; 8,150 X 0.33 = 2,690 votes each for a qualifying vessel captain, lessee, and lessor all associated with the same license.

How Will the Vote Be Conducted?

On or about January 17, 2006, NMFS will mail each eligible voter a ballot that would specify the number of votes (weighting) that voter is assigned. NMFS will mail the ballots and associated explanatory information, via certified mail return receipt requested, to the address of record indicated in NMFS' permit database for endorsement/Class 1 license holders and, for vessel captains, to the address provided to NMFS by the captains during the prior information solicitation that ended August 18, 2003. All votes assigned to an eligible voter must be cast for the same decision, i.e., either all to approve or all to disapprove the applicable referendum question. The ballot must be signed by the eligible voter. Ballots must be mailed to Phil Steele, Southeast Regional Office, NMFS, 263 13th Avenue South, St. Petersburg, FL 33701. Ballots for the second referendum must be received at that address by 4:30 p.m., eastern time, February 21, 2006; ballots received after that deadline will not be considered in determining the outcome of the initial referendum. Although it will not be required, voters may want to consider submitting their ballots by registered mail.

How Will the Outcome of the Second Referendum Be Determined?

Vote counting will be conducted by NMFS. Approval or disapproval of the referendums will be determined by a majority (i.e., a number greater than half of a total) of the weighted votes cast. NMFS will prepare a fishery bulletin announcing the results of the second referendum that is conducted and will distribute the bulletin to all Gulf reef fish permitees, including dealers, and to other interested parties. The results will also be posted on NMFS' Southeast Regional Office's Web site at http://sero.nmfs.noaa.gov.

What Will Happen After the Second Referendum?

NMFS will present the results of the second referendum at the March 2006 Council meeting. If the second referendum fails, the Council cannot proceed with implementation an IFQ program for the commercial red snapper fishery in the Gulf of Mexico. If the second referendum is approved, the Council would be authorized, if it so decides, to submit the finalized plan amendment and regulations to the Secretary for review and approval or disapproval. The proposed IFQ program was developed through the usual Council and rulemaking processes that involved extensive opportunities for industry and public review and input at various Council meetings, public hearings, and during public comment periods on the plan amendment and regulations. The plan amendment and regulations could only be submitted to the Secretary for review and approval or disapproval if, in a second referendum, approval of the submission was passed by a majority (i.e., a number greater than half of a total) of the votes cast by the eligible voters as described above.

Authority: 16 U.S.C. 1801 et seq.

Dated: December 30, 2005.
Margo Schulze-Haugen,
Acting Director, Office of Sustainable Fisheries, National Marine Fisheries Service.

[FR Doc. 06-109 Filed 1-3-06; 2:49 pm]

BILLING CODE 3510-22-S